DEPARTMENT OF HOMELAND SECURITY

Federal Emergency Management Agency

48 CFR Chapter 44

[Docket ID FEMA-2006-0033]

RIN 1660-AA46

Federal Emergency Management Agency (FEMA) Acquisition Regulation System; Removal of Chapter 44

AGENCY: Federal Emergency Management Agency, DHS.

ACTION: Direct final rule; confirmation of effective date.

SUMMARY: The Federal Emergency Management Agency (FEMA) published a direct final rule that notified the public of its intent to remove the FEMA Acquisition Regulation in its entirety. FEMA did not receive any comments on the rule. Therefore, the rule will go into effect as scheduled.

DATES: The effective date of the direct final rule published March 2, 2007 (72 FR 9445) is confirmed as May 1, 2007.

FOR FURTHER INFORMATION CONTACT: Joyce M. Ard, Federal Emergency Management Agency, 500 C Street, SW., Patriot Plaza Room 201, Washington DC, 20472, (phone) 202-646-3213, (facsimile) 202-646-2928, or (e-mail) joyce.ard@dhs.gov.

SUPPLEMENTARY INFORMATION: On March 2, 2007, FEMA published a direct final rule at 72 FR 9445 that notified the public of FEMA's intent to remove the FEMA Acquisition Regulation (FEMAAR) at 48 CFR Chapter 44 in its entirety. The specific language and subsequent clauses are removed as a result of the transfer of FEMA to the Department of Homeland Security (DHS) on March 1, 2003. The Homeland Security Acquisition Regulation (HSAR) created a department-wide acquisition regulation for DHS in 48 CFR Chapter 30, and included FEMA in the list of entities for which the chapter applied, thereby superseding and making 48 CFR Chapter 44 duplicative and unnecessary. FEMA has not received an adverse comment, or notice of intent to submit an adverse comment, on this rule. Therefore, the rule will go into effect as scheduled.

Dated: April 19, 2007.
R. David Paulison,
Administrator, Federal Emergency Management Agency, Department of Homeland Security.

[FR Doc. E7-7971 Filed 4-25-07; 8:45 am]

BILLING CODE 9110-49-P